DEPARTMENT OF ENERGY

Federal Energy Regulatory Commission

[Docket No. IC25-17-000]

Commission Information Collection Activities (Ferc-920, Electric Quarterly Report); Comment Request; Extension

AGENCY: Federal Energy Regulatory Commission, DOE.

ACTION: Notice of information collection and request for comments.

SUMMARY: In compliance with the requirements of the Paperwork Reduction Act of 1995 (PRA), the Federal Energy Regulatory Commission (Commission or FERC) is soliciting public comment on the currently approved information collection, FERC-920 (Electric Quarterly Report (EQR)), which will be submitted to the Office of Management and Budget (OMB) for a review of the information collection requirements. This renewal request does not include any changes to the reporting requirements. The Commission published a 60-day notice on November 24, 2025 (90 FR 52949) and received no comments.

DATES: Comments on the collection of information are due March 19, 2026.

ADDRESSES: Send written comments on FERC-920 to OMB through https://www.reginfo.gov/public/do/PRA/icrPublicCommentRequest?ref_nbr= 202601-1902-001. You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (IC25-17-000) and the FERC Information Collection number (FERC-920) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov.

SUPPLEMENTARY INFORMATION:

Title: FERC-920, Electric Quarterly Reports (EQR).

OMB Control No.: 1902-0255.

Type of Respondent: Public utilities, and non-public utilities with more than a de minimis market presence.

Type of Request: Three-year extension of the FERC-920 information collection with no changes to the current reporting requirements.¹

¹ This Notice is separate from, and does not address, the activities in Docket No. RM23-9-000.

Abstract: The Commission originally set forth the EQR filing requirements in Order No. 2001 (Docket No. RM01-8-000) which required public utilities to electronically file EQRs summarizing transaction information for short-term and long-term cost-based sales and market-based rate sales and the contractual terms and conditions in their agreements for all jurisdictional services.² The Commission established the EQR reporting requirements to help ensure the collection of information needed to perform its regulatory functions over transmission and wholesale sales of electricity, while making data available to the public and allowing public utilities to better fulfill their responsibility under Federal Power Act (FPA) section 205(c) ³ to have rates on file in a convenient form and place. As noted in Order No. 2001, the EQR data is designed to “provide greater price transparency, promote competition, enhance confidence in the fairness of the markets, and provide a better means to detect and discourage discriminatory practices.” ⁴

² Revised Public Utility Filing Requirements, Order No. 2001, 99 FERC ¶ 61,107 (2002), reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 120 FERC ¶ 61,270, (2007), order on reh'g and clarification, Order No. 2001-H, 121 FERC ¶ 61,289 (2008), order revising filing requirements, Order No. 2001-I, 125 FERC ¶ 61,103 (2008).

³ 16 U.S.C. 824d(c).

⁴ Order No. 2001, 99 FERC ¶ 61,107 (2002).

Moreover, collecting data in the EQR is consistent with the Ninth Circuit Court of Appeals' decisions upholding the Commission's market-based rate program on the basis of the “dual requirement of an ex ante finding of the absence of market power and sufficient post-approval reporting requirements.” ⁵ Specifically, the court upheld the Commission's market-based rate program because it relies on a “system [that] consists of a finding that the applicant lacks market power (or has taken steps to mitigate market power), coupled with strict reporting to ensure that the rate is `just and reasonable' and that markets are not subject to manipulation.” ⁶

⁵ California ex rel. Lockyer v. FERC, 383 F.3d 1006, 1013 (9th Cir. 2004) (Lockyer) (emphasis in original). See also Mont. Consumer Counsel v. FERC, 659 F.3d 910, 920 (9th Cir. 2011).

⁶ Lockyer, 383 F.3d at 1013.

Since issuing Order No. 2001, the Commission has provided guidance and refined the reporting requirements, as necessary, to reflect changes in the Commission's rules and regulations.⁷ The Commission also adopted an EQR Data Dictionary, which provides in one document the definitions of certain terms and values used in filing EQR data.⁸

⁷ See, e.g., Revised Public Utility Filing Requirements for Electric Quarterly Reports, 124 FERC ¶ 61,244 (2008) (providing guidance on the filing of information on transmission capacity reassignments in EQRs).

⁸ Order No. 2001-G, 120 FERC ¶ 61,270 (2007).

To increase transparency broadly across all wholesale markets subject to the Commission's jurisdiction, the Commission issued Order No. 768 in 2012.⁹ Order No. 768 required market participants that are excluded from the Commission's jurisdiction under FPA section 205 (non-public utilities) and have more than a de minimis market presence to file EQRs with the Commission. In addition, Order No. 768 revised the EQR filing requirements to build upon the Commission's prior improvements to the reporting requirements and further enhance the goals of providing greater price transparency, promoting competition, instilling confidence in the fairness of the markets, and providing a better means to detect and discourage anti-competitive, discriminatory, and manipulative practices.

⁹ Order No. 768, 140 FERC ¶ 61,232 (2012).

EQR information allows the public to assess market fundamentals and to price interstate wholesale market transactions. This, in turn, results in greater market confidence, lower transaction costs, and ultimately supports competitive markets. In addition, the data filed in the EQR strengthens the Commission's ability to exercise its wholesale electric rate and electric power transmission oversight and enforcement responsibilities in accordance with the FPA. Without this information, the Commission would lack some of the data it needs to support its regulatory function over transmission and sales of electric power.

Type of Respondent: Public utilities, and non-public utilities with more than a de minimis market presence.

Estimate of Annual Burden and Cost ¹⁰: The Commission estimates the annual public reporting burden ¹¹ for the information collection as:

¹⁰ The cost is based on FERC's 2025 Commission-wide average salary cost (salary plus benefits) of $103/hour. The Commission staff believes the FERC FTE (full-time equivalent) average cost for wages plus benefits is representative of the corresponding cost for the industry respondents.

¹¹ Burden is defined as the total time, effort, or financial resources expended by persons to generate, maintain, retain, or disclose or provide information to or for a federal agency. For further explanation of what is included in the information collection burden, refer to 5 Code of Federal Regulations 1320.3.

FERC-920—Electric Quarterly Report (EQR)
Requirements | Number of respondents | Annual number of responses per respondent | Total number of responses | Average annual burden hrs. & cost ($) per response (rounded) | Total average annual burden hours & total annual cost ($) (rounded) | Cost per respondent ($) (rounded)
| 1 | 2 | (1) * (2) = (3) | 4 | (3) * (4) = (5) | (5) ÷ (1)
Electric Quarterly Report | 3,672 | 4 | 14,688 | 18.1 hrs. $1,864 | 265,853 hrs. $27,382,859 | $7,456
Total |  |  | 14,688 |  | 265,853 hrs. $27,382,859 | $7,456

Comments: Comments are invited on: (1) whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: February 10, 2026.
Debbie-Anne A. Reese,
Secretary.

[FR Doc. 2026-03012 Filed 2-13-26; 8:45 am]

BILLING CODE 6717-01-P